DEPARTMENT OF DEFENSE

Office of the Secretary

[Docket ID: DoD-2022-OS-0102]

Proposed Collection; Comment Request

AGENCY: Office of the Under Secretary of Defense for Personnel and Readiness (OUSD(P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 21, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05 Alexandria, VA 22350, LaTarsha Yeargins, 571-372-2089.

SUPPLEMENTARY INFORMATION:

Title; Associated Form; and OMB Number: Qualitative Data Collection on Access to Food on and Near Military Installations; OMB Control Number 0704-AFMI.

Needs and Uses: The Military Community & Family Policy (MC&FP) within the DoD's Office of the Deputy Assistant Secretary of Defense is requesting Office of Management and Budget clearance for Qualitative Data Collection on Enlisted Service Member Access to Food on or Near Military Installations. MCFP will collect qualitative data through interviews and/or focus groups with Enlisted Active Duty Service members and spouses of Enlisted Active Duty Service members to understand the eating and spending patterns of the Enlisted military. Survey data has shown that 24% of the Active Duty Force report some level of food insecurity; the prevalence is higher in the Enlisted population and higher for those who live on-base than off-base. Similar data patterns were seen in the Active Duty Spouse Survey. At this time, little is known about the underlying causes of higher rates of food insecurity in the military, especially as it pertains to those who experience food insecurity while living on a base with dining facilities. Qualitative data collection will allow the DoD to collect data that will inform targeted initiatives to reduce food insecurity. Data collection will address the access to nutritious food and financial management of Service members and spouses' financial management practices.

Affected Public: Individuals or households.

Annual Burden Hours: 240.

Number of Respondents: 360.

Responses per Respondent: 1.

Annual Responses: 360.

Average Burden per Response: 40 minutes.

Frequency: Once.

Dated: August 16, 2022.
Kayyonne T. Marston,
Alternate OSD Federal Register Liaison Officer, Department of Defense.

[FR Doc. 2022-17966 Filed 8-19-22; 8:45 am]

BILLING CODE 5001-06-P